DEPARTMENT OF JUSTICE

Antitrust Division

Notice Pursuant to the National Cooperative Research and Production Act of 1993—The Open Group, L.L.C.

Notice is hereby given that, on May 11, 2021, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, 4Subsea AS, Asker, NORWAY; ACROSS & AHEAD Advisory GmbH, Cologne, GERMANY; AEM Energy Solutions Sdn. Bhd., Jalan Ampang, MALAYSIA; Ball Aerospace, Boulder, CO; Bhavyam Infotech Pte Ltd, Ubi Crescent City, SINGAPORE; Buurst, Inc., Houston, TX; ChampionX, The Woodlands, TX; Cinergix Pty Ltd, Mentone, AUSTRALIA; Core Laboratories LP, Houston, TX; CourseMonster Pty Ltd, Melbourne, AUSTRALIA; CRI2M SRL, Brussels, BELGIUM; D2IQ, Inc., San Francisco, CA; Data Gumbo Corporation, Houston, TX; Digital Business Consulting LLC, McKinney, TX; digitWin, s.r.o., Bratislava, SLOVAKIA; Eaton Corporation, Syracuse, NY; Energy Systems Catapult Limited, Birmingham, UNITED KINGDOM; Full-Stack Architecture International, LLC, Boca Raton, FL; GeoMark Research, Ltd., Houston, TX; Informatica Corporation, Redwood City, CA; Inter-Coastal Electronics, LLC, Mesa, AZ; IPT Global, LLC, Houston, TX; Lexmark International Incorporated, Lexington, KY; Memorial University of Newfoundland, St. John's, CANADA; Micropac Industries Incorporated, Garland, TX; NEDRA New Digital Resources for Assets, Limited Liability Company, Saint-Petersburg, RUSSIAN FEDERATION; NETGEOMETRY SDN. BHD., Selangor, MALAYSIA; NICON Company, Seoul, REPUBLIC OF KOREA; OhioHealth Corporation, Dublin, OH; OSIsoft, LLC, San Leandro, CA; PA Holdings Limited, London, UNITED KINGDOM; Petrosys Pty Ltd, Adelaide, AUSTRALIA; PIDX International, Houston, TX; Quorum Business Solutions USA, Houston, TX; Radiall USA, Inc., Tempe, AZ; Security Express, Pty Ltd, Roseville, AUSTRALIA; Softdel Systems Private Limited, Pune, INDIA; Spirent Federal Systems Inc, Pleasant Grove, UT; StreamDSP, LLC, Columbus, OH; Talented App, Inc., Boca Raton, FL; The Bardasz Group LLC, Houston, TX; The SABSA Institute C.I.C, Hove, UNITED KINGDOM; The University of Melbourne, School of Computing and Information Systems, Parkville, AUSTRALIA; TNO, Netherlands Organisation for applied scientific research, The Hague, THE NETHERLANDS; University of Houston, Houston, TX; Utthunga Technologies Pvt. Ltd., Bangalore, INDIA; and Wavekoda, The Hague, THE NETHERLANDS, have been added as parties to this venture.

Also, 3ES Innovation Inc., Calgary, CANADA; Aljouf University, Sakaka, SAUDI ARABIA; AVISTA, Incorporated, Platteville, WI; Bliley Technologies, Inc., Erie, PA; China Eastern Airlines, Shanghai, PEOPLE'S REPUBLIC OF CHINA; Concho Resources, Midland, TX; Conf. Inter Das Coop Ligadas ao SICREDI, Porto Alegre, BRAZIL; Confluent, Inc., Mountain View, CA; CRFS, Inc., Chantilly, VA; EnergyIQ LLC, Littleton, CO; Esri South Africa (Pty) Ltd., Johannesburg, SOUTH AFRICA; Fugro (USA), Inc., Houston, TX; General Secretariat of the Council of the European Union, Brussels, BELGIUM; Grupo Magnus SAS, Bogota, COLOMBIA; Hess Corporation, Houston, TX; HighByte Inc., Portland, ME; Industrial Electronic Engineers, Inc., Van Nuys, CA; InovaPrime, Serviços em Tecnologias de Informação, Lda., Lisbon, PORTUGAL; International Foundation for Digital Competences, Zaltbommel, THE NETHERLANDS; J.M. Voith SE & Co. KG/DSG, Heidenheim, GERMANY; MTN Group Management Services, Johannesburg, SOUTH AFRICA; Palm View Consulting, Whitlock, BELGIUM; Physical Optics Corporation, Torrance, CA; Royal Vopak, Rotterdam, THE NETHERLANDS; Strand & Donslund A/S, Søborg, DENMARK; Sykehuspartner HF, Dramman, NORWAY; University of Leeds NIHR Clinical Research Network, Leeds, UNITED KINGDOM; and Woodward Inc., Fort Collins, CO, have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on February 8, 2021. A notice was published in the Federal Register pursuant to Section 6(b) of the Act on March 10, 2021 (86 FR 13751).

Suzanne Morris,
Chief, Premerger and Division Statistics, Antitrust Division.

[FR Doc. 2021-10933 Filed 5-24-21; 8:45 am]

BILLING CODE 4410-11-P